OFFICE OF NATIONAL DRUG CONTROL POLICY

Paperwork Reduction Act; Notice of Intent To Collect; Comment Request; Summary of Comments

AGENCY: Office of National Drug Control Policy (ONDCP).

ACTION: Notice and request for comments.

SUMMARY: ONDCP invites comments on a collection of information.

ADDRESSES: You may submit comments directly to the Desk Officer for the ONDCP, Office of Information and Regulatory Affairs, OMB by fax at (202) 395-6566, or by electronic mail at oira_docket@omb.eop.gov.

SUPPLEMENTARY INFORMATION: During the first comment period, ONDCP received the following from the Marijuana Policy Project (MPP) concerning the National Youth Anti-Drug Media Campaign (hereafter NYADMC or “Campaign”).

1. Data on which NYADMC is evaluated is unreliable; and researchers find self-report measures largely suspect.

2. Return to the Westat Analysis Methodology.

3. ONDCP should employ automated collection techniques to broaden the range of comments and reaction to proposed advertising campaigns; and consider the use of informal methodologies for measuring the success of the campaign.

4. The ONDCP NYADMC's near-exclusive focus on marijuana is premised on a fallacious conclusion of cause-and-effect (The “Gateway Theory”).

ONDCP responds in turn to each of the four comments.

1. The collection of information is not designed to measure the effectiveness of the overall Campaign. The collection of information is intended only as part of the advertisement development process. This process is conducted by industry-leading third-party vendors. Moreover, the Institutional Review Board reviewed the process to ensure it satisfies scientific, ethical, and Federal regulatory requirements.

2. ONDCP will continue to measure the overall effectiveness of the Campaign using an independent contractor. Westat is eligible to submit a proposal on the award of the impending solicitation. However, ONDCP may not solicit a proposal solely from Westat.

3. ONDCP agrees that automated collection techniques can cultivate new ideas, gauge reactions and quickly spot potential problems. Consequently, the Campaign's current Web sites prompt reactions to Campaign advertising, and encourage suggestions for improvement. Similarly, the data collection instruments under consideration here solicit open-ended feedback to advertising executions from members of the target audience.

4. The Campaign dispels the mistaken belief that teen substance abuse has no negative consequences, and conveys the fact that marijuana is a serious drug. Marijuana continues to be the illicit substance most widely abused by our nation's youth, and such abuse has adverse health, safety, social, academic, economic and behavioral consequences.

Based on the comments received, ONDCP intends to proceed with its collection of information as initially proposed.

Signed on February 11, 2009.
Daniel R. Petersen,
Assistant General Counsel.

[FR Doc. E9-3311 Filed 2-17-09; 8:45 am]

BILLING CODE 3180-02-P